DEPARTMENT OF HOMELAND SECURITY

[Docket No. DHS-2103-0050]

Critical Infrastructure Partnership Advisory Council (CIPAC)

AGENCY: National Protection and Programs Directorate, DHS.

ACTION: Committee management; Notice of an open Federal Advisory Committee Meeting.

SUMMARY: The Critical Infrastructure Partnership Advisory Council (CIPAC) Plenary Meeting will be held on Tuesday, November 5, 2013, at the Washington DC Convention Center located at 801 Mount Vernon Place NW., Washington, DC 20001. The meeting will be open to the public.

DATES: The CIPAC Plenary will be held on Tuesday, November 5, 2013, from 8:30 a.m. to 4:00 p.m. Registration will begin at 7:30 a.m. For additional information, please consult the CIPAC Web site, http://www.dhs.gov/cipac, or contact the CIPAC Secretariat by phone at (703)235-3999 or by email at CIPAC@hq.dhs.gov.

ADDRESSES: The meeting will be held at the Washington DC Convention Center, 801 Mount Vernon Place, Washington, DC 20001.

While this meeting is open to the public, participation in the CIPAC deliberations is limited to committee members, Department of Homeland Security officials and persons invited to attend the meeting for special presentations. Immediately following the committee member deliberation and discussion period, there will be a limited time period for public comment. This public comment period is designed for substantive commentary that must pertain only to matters involving critical infrastructure security and resiliency. Off-topic questions or comments will not be permitted or discussed. Please note that the public comment period may begin prior to 3:00 p.m. if the committee has completed its business. To accommodate as many speakers as possible, oral presentations will be limited to three (3) minutes per speaker, with no more than 30 minutes for all speakers. Parties interested in presenting must register in person at the meeting location. Oral presentations will be permitted on a first-come, first-serve basis, and given based upon the order of registration; all registrants may not be able to speak if time does not permit.

Written comments are welcome at any time prior to or following the meeting. Written comments may be sent to Renee Murphy, Department of Homeland Security, National Protection and Programs Directorate, 245 Murray Lane SW., Mail Stop 0607, Arlington, VA 20598-0607. For consideration in the CIPAC deliberations, written comments must be received by Renee Murphy by no later than 12:00 p.m. on September 24, 2013, identified by Federal Register Docket Number DHS-2013-0050 and may be submitted by one of the following methods:

• Federal eRulemaking Portal: www.regulations.gov. Follow the instructions for submitting written comments.

• Email: CIPAC@hq.dhs.gov. Include the docket number in the subject line of the message.

• Fax: (703)603-5098.

• Mail: Renee Murphy, National Protection and Programs Directorate, Department of Homeland Security, 245 Murray Lane SW., Mail Stop 0607, Arlington, VA 20598-0607.

Instructions: All written submissions received must include the words “Department of Homeland Security” and the docket number for this action. Written comments received will be posted without alteration at http://www.regulations.gov, including any personal information provided.

Docket: For access to the docket to read background documents or comments received by the CIPAC, go to http://www.regulations.gov.

FOR FURTHER INFORMATION, CONTACT: Renee Murphy, Critical Infrastructure Partnership Advisory Council Alternate Designated Federal Officer, telephone (703) 235-3999.

SUPPLEMENTARY INFORMATION: CIPAC represents a partnership between the Federal Government and critical infrastructure owners and operators, and provides a forum in which they can engage in a broad spectrum of activities to support and coordinate critical infrastructure security and resilience. The September 25, 2013, meeting will include topic-specific discussions focused on partnership efforts to enhance critical infrastructure resilience. Topics such as the Executive Order for Improving Critical Infrastructure Cybersecurity, Presidential Policy Directive 21—Critical Infrastructure Security and Resilience, and Critical Infrastructure Program Updates will be discussed.

Information on Services for Individuals With Disabilities: For information on facilities or services for individuals with disabilities or to request special assistance at the meeting, contact the CIPAC Secretariat at (703) 235-3999 as soon as possible.

Dated: September 12, 2013.
Larry May,
Designated Federal Officer for the CIPAC.

[FR Doc. 2013-22830 Filed 9-18-13; 8:45 am]

BILLING CODE 4410-9P-P